DEPARTMENT OF TRANSPORTATION

Federal Aviation Administration

14 CFR Part 39

[Docket No. 2004-NM-42-AD; Amendment 39-13593; AD 2004-09-04]

RIN 2120-AA64

Airworthiness Directives; Boeing Model 747 -400 and -400D Series Airplanes

AGENCY: Federal Aviation Administration, DOT.

ACTION: Final rule; request for comments.

SUMMARY: This amendment adopts a new airworthiness directive (AD), applicable to certain Boeing Model 747-400 and 400D series airplanes. This action requires installation of tie bars on the rails of the center passenger service units (PSU) panel in Zone A. This action is necessary to prevent PSU panels from moving and falling from the PSU support rails during takeoff and landing, which could result in injury to passengers and could impede evacuation of the passengers in an emergency situation. This action is intended to address the identified unsafe condition.

DATES: Effective May 13, 2004.

The incorporation by reference of a certain publication listed in the regulations is approved by the Director of the Federal Register as of May 13, 2004.

Comments for inclusion in the Rules Docket must be received on or before June 28, 2004.

ADDRESSES: Submit comments in triplicate to the Federal Aviation Administration (FAA), Transport Airplane Directorate, ANM-114, Attention: Rules Docket No. 2004-NM-42-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2004-NM-42-AD” in the subject line and need not be submitted in triplicate. Comments sent via the Internet as attached electronic files must be formatted in Microsoft Word 97 for Windows or ASCII text.

The service information referenced in this AD may be obtained from Boeing Commercial Airplanes, P.O. Box 3707, Seattle, Washington 98124-2207. This information may be examined at the FAA, Transport Airplane Directorate, 1601 Lind Avenue, SW., Renton, Washington; or at the Office of the Federal Register, 800 North Capitol Street, NW., suite 700, Washington, DC.

FOR FURTHER INFORMATION CONTACT: Patrick Gillespie, Aerospace Engineer, Cabin Safety and Environmental Systems Branch, ANM-150S, FAA, Seattle Aircraft Certification Office, 1601 Lind Avenue, SW., Renton, Washington 98055-4056; telephone (425) 917-6429; fax (425) 917-6590.

SUPPLEMENTARY INFORMATION: The FAA has received a report that, during manufacture, panel tie bars were not installed on the rails of the center passenger service units (PSU) panel in Zone A on certain Boeing Model 747-400 series airplanes. If the tie bars in Zone A are not installed, the PSU panels can move from their location on the PSU rails during flexure of the rails. When the PSU panel is on the top side of the PSU rail horizontal flange, it is possible for the PSU door to function incorrectly. Such incorrect functioning of the PSU door could result in the PSU panels falling into the passenger cabin. This condition, if not corrected, could result in PSU panels falling from the PSU support rails during takeoff or landing, which could result in injury to passengers and could impede evacuation of the passengers in an emergency situation.

Explanation of Relevant Service Information

The FAA has reviewed and approved Boeing Special Attention Service Bulletin (SASB), 747-25-3111, Revision 2, dated April 24, 2003. For certain airplanes specified as Group 1 airplanes in the SASB, procedures are described to remove the existing aluminum tie bars of the PSUs and to install new plastic PSU tie bars. For certain other airplanes specified as Group 2 airplanes in the SASB, procedures are described to install tie bars on the rails of the center PSU panel in Zone A. Installation of the tie bars for Group 2 airplanes is intended to adequately address the identified unsafe condition.

Related Rulemaking

On August 3, 1990, we issued AD 90-17-07, amendment 39-6695 (55 FR 33100) which is applicable to certain Boeing Model 747-400 series airplanes. That AD requires modification of the PSU support rails per Boeing Service Bulletin 747-25-2853, dated March 1, 1990.

Explanation of Requirements of the Rule

Since an unsafe condition has been identified that is likely to exist or develop on other airplanes of the same type design that may be registered in the United States at some time in the future, this AD is being issued to prevent PSU panels from moving and falling from the PSU support rails during takeoff or landing, which could result in injury to passengers and could impede evacuation of the passengers in an emergency situation. This AD requires installation of tie bars on the rails of the center PSU panels. With the exception noted in the following “Differences Between the SASB and the AD” section, the actions are required to be accomplished in accordance with the SASB described previously.

Differences Between the SASB and the AD

Although the Boeing SASB describes replacing aluminum tie bars with new plastic ties bars for certain airplanes, this AD does not require such replacement. We consider that the replacement of the aluminum tie bars with new plastic PSU tie bars to be an optional action that is provided mainly for the operator's benefit or convenience, since the new plastic PSU tie bars weigh less than the aluminum tie bars. Further, replacing the aluminum tie bars with the plastic tie bars does not address the identified unsafe condition specified in this AD.

Additionally, the Boeing SASB does not suggest a particular compliance time. We have determined that a compliance time of “within 18 months after the effective date of this AD” will provide adequate time to perform the installation of the tie bars and yet will provide an acceptable level of safety.

Cost Impact

None of the Model 747-400 or 400D series airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would require approximately 1 work hour to accomplish the required actions, at an average labor rate of $65 per work hour. Required parts will be furnished at no cost to operators. Based on these figures, the cost impact of this AD would be $65 per airplane.

Determination of Rule's Effective Date

Since this AD action does not affect any airplane that is currently on the U.S. Register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2004-NM-42-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-09-04 Boeing: Amendment 39-13593. Docket 2004-NM-42-AD.

Applicability: Model 747-400 and -400D series airplanes, identified as Group 2 airplanes in Boeing Special Attention Service Bulletin 747-25-3111, Revision 2, dated April 24, 2003; certificated in any category.

Compliance: Required as indicated, unless accomplished previously.

To prevent passenger service unit (PSU) panels from moving and falling from the PSU support rails during takeoff or landing, which could result in injury to passengers and could impede evacuation of the passengers in an emergency situation; accomplish the following:

Installation of Tie Bars

(a) Within 18 months after the effective date of this AD, install tie bars in Zone A on the rails of the center PSU panels, per the Accomplishment Instructions of Boeing Special Attention Service Bulletin 747-25-3111, Revision 2, dated April 24, 2003.

Alternative Methods of Compliance

(b) In accordance with 14 CFR 39.19, the Manager, Seattle Aircraft Certification Office (ACO), FAA, is authorized to approve alternative methods of compliance (AMOCs) for this AD.

Incorporation by Reference

(c) The actions shall be done in accordance with Boeing Special Attention Service Bulletin 747-25-3111, Revision 2, dated April 24, 2003. This incorporation by reference was approved by the Director of the Federal Register in accordance with 5 U.S.C. 552(a) and 1 CFR part 51. Copies may be obtained from Boeing Commercial Airplanes, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(d) This amendment becomes effective on May 13, 2004.

Issued in Renton, Washington, on April 16, 2004.
Michael J. Kaszycki,
Acting Manager, Transport Airplane Directorate, Aircraft Certification Service.

[FR Doc. 04-9378 Filed 4-27-04; 8:45 am]

BILLING CODE 4910-13-P